FEDERAL MARITIME COMMISSION

[Docket No. 01-07]

Tignes, Inc.—Application for a License as an Ocean Transportation Intermediary

Notice is given that on June 25, 2001, the Federal Maritime Commission served an Order of Investigation to determine whether Tignes, Inc. is qualified by the experience and character standards of section 19 of the Shipping Act of 1984 to be licensed to render services as an Ocean Transportation Intermediary (“OTI”).

Tignes submitted an application for a license as an OTI to operate as a Non-Vessel Operating Common Carrier (“NVOCC”). Sergio Lemme is identified in the application as Tignes' Qualifying Individual, as well as its President and sole owner. On April 30, 2001, the Commission sent a letter of intent to deny the license application to Tignes pursuant to 46 CFR 515.15. The letter of intent to deny was based upon a staff determination that Tignes and Mr. Lemme did not have the experience or character necessary to perform OTI services. The staff made this determination based on admitted violations of the 1984 Act in FMC Docket No. 99-20, GSTAAD, Inc. and Sergio Lemme Possible Violations of Section 10(a)(1) of the Shipping Act of 1984, and indications that GSTAAD, continued to solicit new business after approval of the settlement agreement by the ALJ in Docket No. 99-20. The staff also found indications that Southern Group, of which Mr. Lemme is President and Owner, provided NVOCC services without a license and that materially false and misleading statements were made with respect to Tignes' OTI application. As entitled by 46 CFR 515.15, Tignes, through counsel, requested a hearing on the proposed denial of its license application. The Commission issued the Order of Investigation in Docket No. 01-07 in response to this request. The full text of the Commission's Order of Investigation can be found on the Commission's homepage at www.fmc.gov.

Bryant L. VanBrakle,
Secretary.

[FR Doc. 01-16851 Filed 7-3-01; 8:45 am]

BILLING CODE 6730-01-P